SECURITIES AND EXCHANGE COMMISSION

Sunshine Act Meeting

Notice is hereby given, pursuant to the provisions of the Government in the Sunshine Act, Public Law 94-409, that the Securities and Exchange Commission will hold an Open Meeting on December 3, 2010 at 10 a.m., in the Auditorium, Room L-002.

The subject matter of the Open Meeting will be:

The Commission will consider a recommendation to propose joint rules with the Commodity Futures Trading Commission relating to the definitions of “Swap Dealer,” “Security-Based Swap Dealer,” “Major Swap Participant,” Major Security-Based Swap Participant,” and “Eligible Contract Participant.”

Commissioner Aguilar, as duty officer, determined that no earlier notice thereof was possible.

At times, changes in Commission priorities require alterations in the scheduling of meeting items.

For further information and to ascertain what, if any, matters have been added, deleted or postponed, please contact:

The Office of the Secretary at (202) 551-5400.

Dated: November 30, 2010.
Elizabeth M. Murphy,
Secretary.

[FR Doc. 2010-30407 Filed 11-30-10; 4:15 pm]

BILLING CODE 8011-01-P